NUCLEAR REGULATORY COMMISSION

[Docket No. 70-7004-ML and ASLBP No. 05-838-01-ML]

USEC, Inc.; Establishment of Atomic Safety and Licensing Board

Pursuant to delegation by the Commission dated December 29, 1972, published in the Federal Register, 37 FR 28710 (1972), and the Commission's regulations, see 10 CFR 2.104, 2.300, 2.303, 2.309, 2.311, 2.318, and 2.321, notice is hereby given that an Atomic Safety and Licensing Board is being established to preside over the following proceeding:

USEC, Inc.

(American Centrifuge Plant)

A Licensing Board is being established pursuant to a May 12, 2005 Commission memorandum and order (CLI-05-11, 60 NRC_) in this proceeding regarding the application of the USEC, Inc., (USEC) for a license to possess and use source, byproduct, and special nuclear material and to enrich natural uranium to a maximum of ten percent U-235 by the gas centrifuge process at a facility, to be known as the American Centrifuge Plant, that would be located in Piketon, Ohio. At the outset of this proceeding, the Commission indicated it would make threshold standing determinations itself, and would refer the petitions of persons with the requisite standing to the Atomic Safety and Licensing Board Panel for further adjudicatory proceedings (CLI-04-30, 60 NRC 426, 429 (2004); see also 69 FR 61411 (Oct. 18, 2004)). In its May 12 issuance, the Commission found that both organizational petitioner Portsmouth/Piketon Residents for Environmental Safety and Security (PRESS) and individual petitioner Geoffrey Sea have standing to intervene and, accordingly, referred their petitions and associated contentions to the Panel for further appropriate action.

The Board is comprised of the following administrative judges:

Lawrence G. McDade, Chair, Atomic Safety and Licensing Board Panel, U.S. Nuclear Regulatory Commission, Washington, DC 20555-0001.

Dr. Paul B. Abramson, Atomic Safety and Licensing Board Panel, U.S. Nuclear Regulatory Commission, Washington, DC 20555-0001.

Dr. Richard E. Wardwell, Atomic Safety and Licensing Board Panel, U.S. Nuclear Regulatory Commission, Washington, DC 20555-0001.

All correspondence, documents, and other materials shall be filed with the administrative judges in accordance with 10 CFR 2.302.

Issued at Rockville, Maryland, this 17th day of May, 2005.
G. Paul Bollwerk, III,
Chief Administrative Judge, Atomic Safety and Licensing Board Panel.

[FR Doc. E5-2583 Filed 5-20-05; 8:45 am]

BILLING CODE 7590-01-P